DEPARTMENT OF COMMERCE

Foreign-Trade Zones Board

[Order No. 1899]

Reorganization and Expansion of Foreign-Trade Zone 3 (Expansion of Service Area and Additional Site) San Francisco, California

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the San Francisco Port Commission, grantee of Foreign-Trade Zone 3, submitted an application to the Board (FTZ Docket B-1-2013, docketed 01-09-2013, amended 02-28-2013) for authority to expand the service area of the zone to include Contra Costa, Marin and Solano Counties, as well as portions of Napa and Sonoma Counties, California, and include a new usage-driven site, as described in the amended application, within and adjacent to the San Francisco U.S. Customs and Border Protection port of entry;

Whereas, notice inviting public comment was given in the Federal Register (78 FR 2952, 01/15/2013, 78 FR 14962-14963, 03/08/2013) and the application has been processed pursuant to the FTZ Act and the Board's regulations; and,

Whereas, the Board adopts the findings and recommendations of the examiner's report, and finds that the requirements of the FTZ Act and the Board's regulations are satisfied;

Now, therefore, the Board hereby orders:

The application of FTZ 3 to expand the service area under the ASF and include a new usage-drive site is approved, subject to the FTZ Act and the Board's regulations, including Section 400.13, to the Board's standard 2,000-acre activation limit for the zone and to a three-year ASF sunset provision for usage-driven sites that would terminate authority for Site 6 if no foreign-status merchandise is admitted for a bona fide customs purpose by April 30, 2016.

Signed at Washington, DC, this 30th day of April 2013.
Paul Piquado,
Assistant Secretary of Commerce for Import Administration, Alternate Chairman, Foreign-Trade Zones Board.

Attest:

Andrew McGilvray,
Executive Secretary.

[FR Doc. 2013-11193 Filed 5-10-13; 8:45 am]

BILLING CODE 3510-DS-P